INTERNAL REVENUE SERVICE

26 CFR Part 1

Income Taxes

CFR Correction

In Title 26 of the Code of Federal Regulations, Part 1 (§ 1.1551 to End), revised as of April 1, 2005, in § 1.6045-1(g)(4), Example 9, on page 252, second column, the last paragraph designated (i) and on page 253 first column, first complete paragraph designated (ii) are removed.

[FR Doc. 05-55506 Filed 7-18-05; 8:45 am]

BILLING CODE 1505-01-D